DEPARTMENT OF EDUCATION

[CFDA No.: 84.331A]

Office of Vocational and Adult Education; Grants to States for Workplace and Community Transition Training for Incarcerated Youth Offenders Program

ACTION: Notice establishing a closing date for the receipt of applications for awards for fiscal year (FY) 2001.

Note to Applicants: The Workplace and Community Transition Training for Incarcerated Youth Offenders Program is a formula grant program that provides assistance to State correctional education agencies to—

(a) Assist and encourage incarcerated youths to acquire functional literacy or life and job skills through the pursuit of a postsecondary education certificate or an associate of arts or bachelors' degree while in prison; and

(b) Provide employment counseling and other related services that start during incarceration and continue through pre-release and while on parole or during release.

In order to receive assistance under this program for Fiscal Year 2001, a State correctional educational agency that has been appointed by the Governor must submit an application to the Department on or before June 15, 2001.

Eligible Applicants: A State correctional education agency appointed by the Governor of any of the 50 States, the Commonwealth of Puerto Rico, District of Columbia, Guam, America Samoa, the Virgin Islands, and the Northern Mariana Islands.

Applications Available: May 16, 2001. Application materials have been sent to the State correctional education agency appointed by the Governor. Eligible State correctional education agencies may request additional application material if needed.

Deadline for Transmittal of Applications: June 15, 2001.

Available Funds: $17,000,000.

Estimated Number of Awards: 56.

Note: The Department is not bound by any estimates in this notice.

Applicable Statute and Regulations: (a) The relevant provisions of Public Law 105-244, Title VIII, section 821, 20 U.S.C. 1151.

(b) The Education Department General Administrative Regulations (EDGAR) as follows:

(1) 34 CFR part 76 (State-Administered Programs).

(2) 34 CFR part 77 (Definitions that Apply to Department Regulations).

(3) 34 CFR part 80 (Uniform Administrative Requirements for Grants and Cooperative Agreements to State and Local Governments).

(4) 34 CFR part 81 (General Education Provisions Act—Enforcement).

(5) 34 CFR part 82 (New Restrictions on Lobbying).

(6) 34 CFR part 85 (Governmentwide Debarment and Suspension (Nonprocurement) and Governmentwide Requirements for Drug-Free Workplace (Grants)).

(7) 34 CFR part 86 (Drug and Alcohol Abuse Prevention).

FOR FURTHER INFORMATION CONTACT: John Linton or Carlette Huntley, Office of Correctional Education, Division of National Programs, Office of Vocational and Adult Education, U.S. Department of Education, 400 Maryland Avenue, SW. (Room 4529, Mary E. Switzer Building), Washington, DC 20202-7242. Telephone (202) 260-7007 or (202) 205-5621, respectively. Internet addresses: John.Linton@ed.gov Carlette.Huntley@ed.gov.

Individuals who use a telecommunications device for the deaf (TDD) may call the Federal Information Relay Service (FIRS) at 1-888-877-8339. Individuals with disabilities may obtain this notice in an alternative format (e.g., Braille, large print, audiotape, or computer diskette) on request to the contact persons listed at the beginning of this paragraph. Individuals with disabilities may obtain a copy of the application package in an alternative format, also, by contacting those persons. Please note, however, that the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 1151.

Dated: May 11, 2001.
Robert D. Muller,
Deputy Assistant Secretary, Office of Vocational and Adult Education.

[FR Doc. 01-12403 Filed 5-15-01; 8:45 am]

BILLING CODE 4000-01-U